DEPARTMENT OF JUSTICE

Antitrust Division

Notice Pursuant to the National Cooperative Research and Production Act of 1993—American Massage Therapy Association

Notice is hereby given that, on July 25, 2025, pursuant to section 6(a) of the National Cooperative Research and Production Act of 1993, 15 U.S.C. 4301 et seq. (“the Act”), the American Massage Therapy Association (“AMTA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: American Massage Therapy Association, Evanston, IL. The nature and scope of AMTA's standards development activities are: to develop, plan, establish, coordinate, and publish voluntary consensus standards applicable to the field of massage therapy. Specifically, AMTA is engaged in the development of voluntary uniform standards for the safe and competent practice of massage by a professional massage therapist. Through its standards development activities, AMTA seeks to ensure the highest quality of practice in massage therapy. AMTA's standards development activities include participation of, and input from, a broad base of organizations and individuals in the massage therapy profession and other interested parties, including, but not limited to, bodywork professionals, state licensing boards, massage schools, accrediting bodies, and parties with a general interest in issues relating to the profession of massage therapy. AMTA requires that proposed standards be analyzed through an open, balanced, objective and deliberative process. AMTA's standards development activities are ongoing in nature, and AMTA may continue to amend, revise and/or supplement the uniform standards of massage therapy practice from time to time.

Suzanne Morris,
Deputy Director Civil Enforcement Operations, Antitrust Division.

[FR Doc. 2025-15690 Filed 8-15-25; 8:45 am]

BILLING CODE P